DEPARTMENT OF ENERGY

Senior Executive Service; Performance Review Board

AGENCY: U.S. Department of Energy.

ACTION: SES Performance Review Board Standing Register.

SUMMARY: This notice provides the Performance Review Board Standing Register for the Department of Energy. This listing supersedes all previously published lists of PRB members.

DATES: These appointments are effective as of September 30, 2013.

ADAMS, VINCENT NMN

ADCOCK, DONALD E.

AIYAR, PRIYA R.

ALEXANDER, KATHLEEN B.

ALLEN, DAVID R.

ALLISON, JEFFREY M.

AMARAL, DAVID M.

ANDERSON, CYNTHIA V.

ANDERSON, ROBERT T.

ANDREWS, CLAUDIA R.

AOKI, STEVEN NMN

ARANGO III, JOSEPH NMN

ASCANIO, XAVIER NMN

ATKINS, ARTHUR G.

BAKER, KENNETH E.

BARHYDT, LAURA L.

BATTERSHELL, CAROL J.

BEAMON, JOSEPH A.

BEARD, JEANNE M.

BEARD, SUSAN F.

BEAUSOLEIL, GEOFFREY L.

BEKKEDAHL, LARRY N.

BELL, MELODY C.

BESTANI, ROBERT M.

BIENIAWSKI, ANDREW J.

BIERBOWER, WILLIAM J.

BINKLEY, JOHN S.

BISHOP, CLARENCE T.

BISHOP, TRACEY L.

BLACK, STEVEN K.

BOARDMAN, KAREN L.

BODI, F. LORRAINE

BOLTON JR. EDWARD L.

BORGSTROM, CAROL M.

BOSCO, PAUL NMN

BOSTON, ROBERT D.

BOUDREAU, ROBERT N.

BOULDEN III, JOHN S.

BOWHAN, BRETT R.

BOWMAN, DAVID R.

BOYD, DAVID O.

BOYKO, THOMAS R.

BOYLE, WILLIAM J.

BRADY, MARK C.

BREMER, JOHN D.

BRESE, ROBERT F.

BROTT, MATTHEW J.

BROWN, DAVID S.

BROWN, FRED L.

BROWN, STEPHANIE H.

BRYAN, WILLIAM N.

BURROWS, CHARLES W.

BUTTRESS, LARRY D.

CADIEUX, GENA E.

CALBOS, PHILIP T.

CALLAHAN, SAMUEL N.

CAMPAGNONE, MARI-JOSETTE N.

CAMPBELL II, HUGH T.

CANNON, SCOTT C.

CAPONITI, ALICE K.

CAROSINO, ROBERT M.

CARR, MICHAEL S.

CHABAY, JOHN E.

CHALK, STEVEN G.

CHARBONEAU, STACY L.

CHEN, YU-HAN NMN

CHOI, JOANNE Y.

CHUNG, DAE Y.

CLAPPER, DANIEL R.

CLARK, DIANA D.

CLARK, KERRY M.

CLINTON, RITA M.

COHEN, DANIEL NMN

CONNERY, JOYCE L.

CONTI, JOHN J.

COOPER, JAMES R.

COOPER, SUZANNE BENNETT

CORBIN, ROBERT F.

COREY, RAY J.

CRAIG JR. JACKIE R.

CRAWFORD, GLEN D.

CRESCENZO, FRANK J.

CROUTHER, DESI A.

CROWELL, BRADLEY R.

CUGINI, ANTHONY V.

CUMMINS, KELLY NICOLE

DAVENPORT, SHARI T.

DAVIDSON, PETER W.

DAVIS, PATRICK B.

DE VOS, ERICA NMN

DEAROLPH, DOUGLAS J.

DECKER, ANITA J.

DEHAVEN, DARREL S.

DEHMER, PATRICIA M.

DEHORATIIS JR. GUIDO NMN

DELHOTAL, KATHERINE CASEY

DELWICHE, GREGORY K.

DETWILER, RALPH P.

DEZIEL, DENNIS R.

DIAMOND, BRUCE M.

DICAPUA, MARCO S.

DICKENSON, HOWARD E.

DICKINSON, MARK H.

DIFIGLIO, CARMEN NMN

DIKEAKOS, MARIA V.

DIXON, ROBERT K.

DOONE, ALISON L.

DOWELL, JONATHAN A.

DRUMMOND, WILLIAM K.

DUNNE, MATTHEW S.

DURANT III, JAMES MELBOURN

DURANT, CHARLES K.

ECKROADE, WILLIAM A.

EDWARDS III, ROBERT E.

EHLI, CATHY L.

ELKIND, JONATHAN H.

ELY, LOWELL V.

ERHART, STEVEN C.

ESCHENBERG, JOHN R.

FERRARO, PATRICK M.

FLETCHER, THOMAS W.

FLOHR, CONNIE M.

FLYNN, KAREN L.

FRANCO JR., JOSE R.

FRANKLIN, RITA R.

FRANTZ, DAVID G.

FREMONT, DOUGLAS E.

FRESCO, MARY ANN E.

FURRER, ROBIN R.

FURSTENAU, RAYMOND V.

FYGI, ERIC J.

GABRIEL, MARK A.

GAFFNEY, BARRY A.

GALLAGHER, CHRISTIANA NMN

GAMAGE, SARAH L.

GARCIA, ANNA M.

GASPEROW, LESLEY A.

GEERNAERT, GERALD L.

GEISER, DAVID W.

GELISKE, TERRY M.

GELLES, CHRISTINE M.

GENDRON, MARK O.

GENECE, RICHARD B.

GERRARD, JOHN E.

GIBBS, ROBERT C.

GIBSON JR, WILLIAM C.

GIBSON, CHRISTINE M.

GILBERTSON, MARK A.

GILLO, JEHANNE E.

GOLAN, PAUL M.

GOLUB, SAL JOSEPH.

GOODRUM, WILLIAM S.

GORDON, THEANNE E.

GREENAUGH, KEVIN C.

GREENE, JANIS E.

GREENWOOD, JOHNNIE D.

GRIEGO, JUAN L.

GROF-TISZA, LAJOS E.

GROSE, AMY E.

GRUENSPECHT, HOWARD K.

GUEVARA, ARNOLD E.

HALE, ANDREW M.

HALE, JOHN H.

HALL, R KEVIN.

HALLMAN, TIMOTHY J.

HAMEL JR, WILLIAM F.

HANLON, PETER H.

HANNIGAN, JAMES J.

HARKAVY, ANNE NMN

HARMS, TIMOTHY C.

HARP, BENTON J.

HARRELL, JEFFREY P.

HARRINGTON, PAUL G.

HARRIS, ROBERT J.

HARROD, WILLIAM J.

HARVEY, STEPHEN J.

HELD, EDWARD B.

HELLAND, BARBARA J.

HENNEBERGER, KAREN O.

HENNEBERGER, MARK W.

HERCZEG, JOHN W.

HICKMAN, MICHAEL O.

HINE, SCOTT E.

HINTZE, DOUGLAS E.

HOGAN, KATHLEEN B.

HOLECEK, MARK L.

HOLLAND, RALPH E.

HOLLETT, DOUGLAS W.

HOLTON, LANGDON K.

HONKOMP, CHRISTOPHER J.

HORNING, PAMELA A.

HORTON, LINDA L.

HUIZENGA, DAVID G.

HUTTON, JAMES A.

JOHNS, CHRISTOPHER S.

JOHNSON JR, THOMAS NMN

JOHNSON, ROBERT SHANE

JOHNSON, SANDRA L.

JONES, GREGORY A.

JONES, MARCUS E.

JONES, WAYNE NMN

JUJ, HARDEV S.

KAEMPF, DOUGLAS E.

KAPLAN, STAN M.

KEARNEY, JAMES H.

KELLY, HENRY C.

KELLY, JOHN E.

KELLY, LARRY C.

KENCHINGTON, HENRY S.

KENDELL, JAMES M.

KENDERDINE, MELANIE A.

KETCHAM, TIMOTHY E.

KHAN, TARIQ M.

KIGHT, GENE H.

KIM, DONG K.

KIMBERLING, LINDA S.

KIRCHHOFF, STEPHEN A.

KLARA, SCOTT M.

KLAUS, DAVID M.

KLAUSING, KATHLEEN A.

KLING, JON NMN.

KNOBLOCH, KEVIN T.

KNOLL, WILLIAM S.

KNOTEK, MICHAEL L.

KOLB, INGRID A C.

KOUNTOURIS, VASILIOS G.

KOURY, JOHN F.

KROL, JOSEPH J.

KUNG, HUIJOU HARRIET

KUSNEZOV, DIMITRI F.

LAGDON JR, RICHARD H.

LAWRENCE, ANDREW C.

LAWRENCE, STEVEN J.

LE, MINH SY

LEATHLEY, KIMBERLY A.

LEBAK, KIMBERLY DAVIS

LECKEY, THOMAS J.

LEE, TERRI TRAN

LEGG, KENNETH E.

LEHMAN, DANIEL R.

LEMPKE, MICHAEL K.

LENHARD, JOSEPH A.

LERSTEN, CYNTHIA A.

LEVITAN, WILLIAM M.

LEVY, JONATHAN M.

LEWIS, ROGER A.

LINGAN, ROBERT M.

LIVENGOOD, JOANNA M.

LOCKWOOD, ANDREA K.

LOWERY, FRANK JOSEPH MICHA

LUCAS, JOHN T.

LUSHETSKY, JOHN M.

LUTZE, NEILE MILLER

MACINTYRE, DOUGLAS M.

MACKEY, TONYA M.

MACWILLIAMS III, JOHN J.

MADDEN, ALICE D.

MAINZER, ELLIOT E.

MARCINOWSKI III, FRANCIS N.

MARKOVITZ, ALISON J.

MARLAY, ROBERT C.

MARMOLEJOS, POLI A.

MARTIN, JARED L.

MAY, JOSEPH J.

MCARTHUR, BILLY R.

MCBREARTY, JOSEPH A.

MCCONNELL, JAMES J.

MCCORMICK, MATTHEW S.

MCGINNIS, EDWARD G.

MCGUIRE, PATRICK W.

MCILWAIN, SERENA A.

MCKENZIE, JOHN M.

MCMILLIAN, JIMMY E.

MCRAE, JAMES BENNETT

MEEKER, JOHN W.

MEEKS, TIMOTHY J.

MEFFORD, PENNY L.

MELAMED, ELEANOR NMN

MELENDEZ, CARMELO NMN

MENDELSOHN, CATHERINE R.

MILLIKEN, JOANN NMN

MINVIELLE, THOMAS M.

MIOTLA, DENNIS M.

MOE, DARRICK C.

MOLLOT, DARREN J.

MONTOYA, ANTHONY H.

MOODY III, DAVID C.

MOORE, JOHNNY O.

MORTENSON, VICTOR A.

MOURY, MATTHEW B.

MUELLER, TROY J.

MURPHIE, WILLIAM E.

MURPHY, JAMES B.

MUSTIN, TRACY P.

NAPLES, ELMER M.

NAPOLITANO, SAMUEL A.

NASSIF, ROBERT J.

NICHOLS, DON F.

NICOLL, ERIC G.

NWACHUKU, FRANCES I.

O'BRIEN, JAMES B.

O'CONNOR, STEPHEN C.

O'CONNOR, THOMAS J.

ODER, JOSEPH M.

O'KONSKI, PETER J.

OLENCZ, JOSEPH NMN

OLIVER, LEANN M.

OLIVER, STEPHEN R.

ORTIZ, DAVID S.

OSHEIM, ELIZABETH L.

OWENDOFF, JAMES M.

PAVETTO, CARL S.

PAYNE, JANIE L.

PEARSON, VIRGINIA A.

PEEK, MICHAEL A.

PENRY, JUDITH M.

PERSHING, JONATHAN C.

PHAN, THOMAS H.

PICHA, KENNETH G.

PLASYNSKI, SEAN I.

PODONSKY, GLENN S.

PORTER, STEVEN A.

POWELL, CYNTHIA ANN

PROCARIO, MICHAEL P.

PROVENCHER, RICHARD B.

PURUCKER, ROXANNE E.

RAINES, ROBERT B.

RASAR, KIMBERLY D.

RHODERICK, JAY E.

RICHARDS, AUNDRA M.

RICHARDSON, SUSAN S.

RISSER, ROLAND J.

ROACH, RANDY A.

RODGERS, DAVID E.

RODGERS, STEPHEN J.

ROEGE, WILLIAM H.

ROHLFING, ERIC A.

ROY, MELL J.

SALMON, JEFFREY T.

SAMUELSON, SCOTT L.

SATYAPAL, SUNITA NMN

SAYLES, ANDRE H.

SCHAAL, ALFRED MICHAEL

SCHEINMAN, ADAM M.

SCHOENBAUER, MARTIN J.

SCHREIBER, BERTA L.

SCHULTZ, DOUGLAS W.

SCHUNEMAN, PATRICIA J.

SCOTT, RANDAL S.

SCOTT, ROBERT W.

SENA, RICHARD F.

SHEELY, KENNETH B.

SHEPPARD, CATHERINE M.

SHEWAIRY, JOHN C.

SHOOP, DOUG S.

SHORT, STEPHANIE A.

SHRADER, TODD A.

SIMONSON, STEVEN C.

SKUBEL, STEPHEN C.

SMITH, CHRISTOPHER A.

SMITH, KEVIN W.

SMITH, THOMAS Z.

SMITH-KEVERN, REBECCA F.

SNIDER, ERIC S.

SNYDER, ROGER E.

SPEARS, TERREL J.

SPERLING, GILBERT P.

STAKER, THOMAS R.

STEARRETT, BARBARA H.

STENSETH, WILLIAM LYNN

STEPHENSON, APRIL G.

STONE, BARBARA R.

STREIT, LISA D.

STUCKY, JEAN SEIBERT

SUNDERLAND, MARY T.

SURASH, JOHN E.

SWEETNAM, GLEN E.

SYKES, MERLE L.

SYNAKOWSKI, EDMUND J.

TALBOT JR, GERALD L.

TAYLOR, CHARLES W.

THOMPSON, MICHAEL A.

THRESS JR, DONALD F.

TILDEN, JAY A.

TOCZKO, JAMES E.

TOMER, BRADLEY J.

TRAUTMAN, STEPHEN J.

TURNER, CHRISTOPHER MARK

TURNER, SHELLEY P.

TURNURE, JAMES T.

TYBOROWSKI, TERESA ANN

TYNER, TERESA M.

UNRUH, TIMOTHY D.

URIE, MATTHEW C.

VALDEZ, WILLIAM J.

VAN DAM, JAMES W.

VANGENDEREN, HEIDI NMN

VAVOSO, THOMAS G.

VENUTO, KENNETH T.

VILLAR, JOSE A.

WADDELL, JOSEPH F.

WAISLEY, SANDRA L.

WANDER, WILLIAM T.

WARD, GARY K.

WARNICK, WALTER L.

WARREN, BRADLEY S.

WATKINS, EDWARD F.

WATSON, PERNELL B.

WAYLAND, KAREN G.

WEATHERWAX, SHARLENE C.

WEIS, MICHAEL J.

WELLING, DAVID CRAIG

WESTFALL, LYNN D.

WESTON-DAWKES, ANDREW P.

WHITE, WILLIAM I.

WHITNEY, JAMES M.

WILBER, DEBORAH A.

WILCHER, LARRY D.

WILLIAMS, ALICE C.

WILLIAMS, RHYS M.

WILLIAMS, THOMAS D.

WILSON JR, THOMAS NMN

WORLEY, MICHAEL N.

WORTHINGTON, PATRICIA R.

WYKA JR, THEODORE A.

YEH, DAVID Y.

YOSHIDA, PHYLLIS G.

ZABRANSKY, DAVID K.

ZAMORSKI, MICHAEL J.

ZEH, CHARLES M.

Issued in Washington, DC: November 8, 2013.
Tonya M. Mackey,
Director, Office of Executive Resources, Office of the Chief Human Capital Officer.

[FR Doc. 2013-28037 Filed 11-21-13; 8:45 am]

BILLING CODE 6450-01-P